NATIONAL FOUNDATION ON THE ARTS AND THE HUMANITIES

National Endowment for the Humanities

Proposed Collection; Comment Request; Generic Clearance for the Collection of Qualitative Feedback on Agency Service Delivery

AGENCY: National Endowment for the Humanities, National Foundation on the Arts and the Humanities.

ACTION: Notice and request for comments.

SUMMARY: In accordance with the Paperwork Reduction Act (PRA), the National Endowment for the Humanities (NEH) is soliciting public comments on a new information collection, the “Generic Clearance for the Collection of Qualitative Feedback on Agency Service Delivery.” This generic clearance will fast-track the process for NEH to seek feedback, through surveys and similar feedback instruments, from the public on NEH services and programs. NEH seeks comments from all interested individuals and organizations, and intends to submit this generic clearance request to the Office of Management and Budget (OMB) for approval.

DATES: Please submit comments on this generic clearance request to NEH on or before August 31, 2015.

ADDRESSES: Please submit comments to Mr. Michael McDonald, General Counsel at gencounsel@neh.gov or by mail to 400 7th Street SW., 4th Floor, Washington, DC 20506.

SUPPLEMENTARY INFORMATION:

Title: Generic Clearance for the Collection of Qualitative Feedback on Agency Service Delivery.

Type of Request: New.

Abstract: NEH is proposing a new information collection—in the form of a generic clearance—that will allow NEH to receive fast-track approval from OMB when NEH wishes to seek feedback from the public about NEH events and programs. With this generic clearance NEH will be able to garner qualitative customer and stakeholder feedback in an efficient, timely manner, in accordance with the Administration's commitment to improving service delivery by Federal agencies to the public. By qualitative feedback we mean information that provides useful insights on people's opinions of NEH programs, events, publications, products and other services NEH provides to the public. This qualitative feedback will:

• Provide NEH with insights into customer or stakeholder perceptions, experiences and expectations,

• Provide NEH with an early warning of issues with service, and

• Focus agency attention on areas where communication, training or changes in operations might improve delivery of NEH products or services.

NEH will solicit feedback in areas such as: timeliness, appropriateness, accuracy of information, courtesy, efficiency of service delivery, and resolution of issues with service delivery. NEH will use the responses to plan and to improve the quality of service and programs offered to the public.

NEH will submit a customer survey or other information collection for approval under this generic clearance only if it meets the following conditions:

• The collection is voluntary;

• The collection is low-burden for respondents (based on considerations of total burden hours, total number of respondents, or burden-hours per respondent) and is low-cost for both the respondents and the Federal Government;

• The collection is non-controversial;

• The collection solicits opinions only from respondents who have experience with the program or may have experience with the program in the near future;

• The collection only asks for personally identifiable information (PII) to the extent necessary, and NEH will not retain the PII without the respondent's express consent;

• The collection does not result in any new system of records containing privacy information; and

• The collection does not ask questions of a sensitive nature, such as sexual behavior and attitudes, religious beliefs, and other matters that are commonly considered private.

For every customer survey or other information collection under this generic clearance, NEH will use the information gathered internally only for general service improvement and program management purposes and does not intend to release the information outside of the agency. NEH will not gather information for the purpose of substantially informing influential policy decisions. NEH will only gather data in a way designed to yield qualitative information, not statistically reliable results or results meant to be generalizable to the population of study.

Affected Public: Individuals and Households, Businesses and Organizations, State, Local or Tribal Governments.

Below we provide projected average estimates for the next three years. The formula used to calculate the total burden hours is “estimated average time per responses” times “annual responses.”

Estimated Number of Respondents: 10,000.

Estimated Annual Number of Responses per Respondent: Once per request.

Estimated Total Annual Responses: 10,000.

Estimated Average Time per Response: 15 minutes (0.25 hours).

Estimated Total Annual Burden Hours: 2,500 hours.

Request for Comments: NEH will make comments submitted in response to this notice, including names and addresses where provided, a matter of public record. NEH will summarize the comments and include them in the request for OMB approval. We are requesting comments on all aspects of this generic clearance request, including:

(a) Whether the collection of information is necessary for the proper performance of the functions of the agency, including whether the information will have practical utility;

(b) the accuracy of the agency's estimate of the burden of the collection of information;

(c) ways to enhance the quality, utility, and clarity of the information to be collected; and

(d) ways to minimize the burden of the collection of information on respondents, including through the use of automated collection techniques or other forms of information technology.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

NEH is requesting OMB approval for three years. There are no costs to respondents other than their time.

Dated: June 23, 2015.
Margaret F. Plympton,
Deputy Chairman.

[FR Doc. 2015-15905 Filed 7-1-15; 8:45 am]

BILLING CODE 7536-01-P